FEDERAL LABOR RELATIONS AUTHORITY

5 CFR Part 2429

Unfair Labor Practice Proceedings and Miscellaneous and General Requirements

AGENCY: Federal Labor Relations Authority.

ACTION: Final rule.

SUMMARY: The Federal Labor Relations Authority (FLRA) is engaged in an initiative to make electronic filing or “eFiling” available to parties in all cases before the FLRA. Making eFiling available is another way in which the FLRA is using technology to improve the customer-service experience. These eFiling enhancements are expected to increase efficiency by reducing procedural filing errors and processing delays.

DATES: Effective March 23, 2015.

ADDRESSES: Written comments about this final rule can be emailed to engagetheFLRA@flra.gov or sent to the Case Intake and Publication Office, Federal Labor Relations Authority, 1400 K Street NW., Washington, DC 20424. All written comments will be available for public inspection during normal business hours at the Case Intake and Publication Office.

FOR FURTHER INFORMATION CONTACT: Gina Grippando, Counsel for Regulatory and Public Affairs, Federal Labor Relations Authority, Washington, DC 20424, (202) 218-7776.

SUPPLEMENTARY INFORMATION: In the first stage of its eFiling initiative, the FLRA enabled parties to use eFiling to file requests for Federal Service Impasses Panel assistance in the resolution of negotiation impasses. See 77 FR 5987 (Feb. 7, 2012). The second stage of the FLRA's eFiling initiative provided parties with an option to use eFiling to electronically file 11 types of documents in cases filed with the FLRA's three-member adjudicatory body, the Authority. Parties may now file such documents. See 77 FR 26430 (May 4, 2012). The third stage of the FLRA's eFiling initiative provided parties with the option to use eFiling to electronically file certain documents involved in representation and unfair labor practice proceedings. See 77 FR 37751 (June 25, 2012).

The fourth stage of the FLRA's eFiling initiative is the subject of this Final Rule. In this stage, parties will be able to use the FLRA's eFiling system to file certain documents involved in unfair labor practice proceedings before the FLRA's Office of Administrative Law Judges. This rule modifies the FLRA's existing regulations to allow eFiling of those documents. As the FLRA's eFiling procedures develop, the revisions set forth in this action may be evaluated and revised further.

Sectional Analysis

Sectional analysis of the amendments and revisions to part 2429, Miscellaneous and General Requirements, are as follows:

Part 2429—Miscellaneous and General Requirements

Section 2429.24(d)

This section is amended to reflect the addition of eFiling as an authorized means of filing documents with the Office of Administrative Law Judges pursuant to paragraph (f)(15) of this section and corrects the person with whom such documents must be filed by replacing appropriate administrative law judge with Chief Administrative Law Judge.

Section 2429.24(f)(15)

This section is added to reflect that documents filed with the Office of Administrative Law Judges are now documents that can be filed using eFiling as an alternative to the filing methods discussed in paragraph (e) of this section.

As described above, this amendment updates the regulations to merely expand the Federal Labor Relations Authority's current electronic filing system. This rule pertains to agency organization, procedure, or practice, and it is exempt from prior notice and public comment pursuant to 5 U.S.C. 553(b)(A).

Executive Order 12866

The FLRA is an independent regulatory agency, and as such, is not subject to the requirements of E.O. 12866.

Executive Order 13132

The FLRA is an independent regulatory agency, and as such, is not subject to the requirements of E.O. 13132.

Regulatory Flexibility Act Certification

Pursuant to section 605(b) of the Regulatory Flexibility Act, 5 U.S.C. 605(b), the Chairman of the FLRA has determined that this rule, as amended, will not have a significant impact on a substantial number of small entities, because this rule applies only to federal agencies, federal employees, and labor organizations representing those employees.

Unfunded Mandates Reform Act of 1995

This rule change will not result in the expenditure by state, local, and tribal governments, in the aggregate, or by the private sector, of $100,000,000 or more in any one year, and it will not significantly or uniquely affect small governments. Therefore, no actions were deemed necessary under the provisions of the Unfunded Mandates Reform Act of 1995.

Small Business Regulatory Enforcement Fairness Act of 1996

This action is not a major rule as defined by section 804 of the Small Business Regulatory Enforcement Fairness Act of 1996. This rule will not result in an annual effect on the economy of $100,000,000 or more; a major increase in costs or prices; or significant adverse effects on competition, employment, investment, productivity, innovation, or on the ability of United States-based companies to compete with foreign-based companies in domestic and export markets.

Paperwork Reduction Act of 1995

The amended regulations contain no additional information collection or record-keeping requirements under the Paperwork Reduction Act of 1995, 44 U.S.C. 3501, et seq.

List of Subjects in 5 CFR Part 2429

Administrative practice and procedure, Government employees, Labor management relations.

For the reasons stated in the preamble, the FLRA amends 5 CFR part 2429, as follows:

PART 2429—[AMENDED]

1. The authority citation for part 2429 continues to read as follows:

Authority: 5 U.S.C. 7134; § 2429.18 also issued under 28 U.S.C. 2112(a).

2. Section 2429.24 is amended by revising paragraph (d) and adding paragraph (f)(15) to read as follows:

§ 2429.24 Place and method of filing; acknowledgement.

* * * * *

(d) Unless electronically filed pursuant to paragraph (f)(15) of this section, a document filed with the Office of Administrative Law Judges pursuant to this subchapter shall be submitted to the address for the Chief Administrative Law Judge, as set forth in the appendix.

(f) * * *

(15) Documents submitted to the Office of Administrative Law Judges under 5 CFR part 2423, including answers to complaints, motions, briefs, pre-hearing disclosures, stipulations, and any other documents as permitted by the eFiling system for the Office of Administrative Law Judges.

* * * * *

Dated: February 12, 2015.
Carol Waller Pope,
Chairman.

[FR Doc. 2015-03315 Filed 2-19-15; 8:45 am]

BILLING CODE 6727-01-P